NATIONAL AERONAUTICS AND SPACE ADMINISTRATION

[Notice 04-112]

NASA Advisory Council, Education Advisory Committee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Education Advisory Committee (EAC).

DATES: Monday, October 25, 2004, 8:30 a.m. to 3 p.m.; and Tuesday, October 26, 2004, 8:30 a.m. to 4:30 p.m.

ADDRESSES: Monday, October 25 at NASA Jet Propulsion Laboratory, 4800 Oak Grove Drive, Pasadena, CA, Tuesday, October 26 at Ritz Carlton, 1401 South Oak Knoll, Pasadena, CA

FOR FURTHER INFORMATION CONTACT: Dr. Katie Blanding, Office of Education, National Aeronautics and Space Administration, Washington, DC 20546, (202) 358-0402.

SUPPLEMENTARY INFORMATION: The meeting will be open to the public up to the capacity of the room. All visitors must bring a driver's license or government identification to the Visitor Lobby of JPL. Foreign visitors must bring their passport, alien registration number, and their date and place of birth. Additionally, the general public will need to be escorted to the meeting room. The agenda for the meeting includes the following topics:

—NASA Transformation Roadmapping Initiative

—Review of the Jet Propulsion Lab's (JPL) Education Program

—Transforming Education

—NASA's Integration Plan and Role of Education

—Office of Education Division Reports on: Milestones in the Educator Astronaut Program, Explorer Schools, Explorer Institutes, Science and Technology Scholarship Program, Technology & Products, Measurements, and a Single Database System.

It is imperative that the meeting be held on these dates to accommodate the scheduling priorities of the key participants. Visitors to the meeting will be requested to sign a visitor's register.

R. Andrew Falcon,
Advisory Committee Management Officer, National Aeronautics and Space Administration.

[FR Doc. 04-23039 Filed 10-13-04; 8:45 am]

BILLING CODE 7510-13-P